DEPARTMENT OF HOMELAND SECURITY

Federal Emergency Management Agency

[Docket ID FEMA-2016-0002; Internal Agency Docket No. FEMA-B-1602]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 2, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1602, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: February 4, 2016.
Roy E. Wright,
Deputy Associate Administrator for Insurance and Mitigation, Department of Homeland Security, Federal Emergency Management Agency.

I. Watershed-based studies:

Community | Community map repository address
Lower Missouri-Moreau Watershed
Maps Available for Inspection Online at: http://www.fema.gov/preliminaryfloodhazarddata
Howard County, Missouri, and Incorporated Areas
City of Franklin | City Hall, 410 Crews Avenue, Franklin, MO 65250.
City of Glasgow | City Hall, 100 Market Street, Glasgow, MO 65254.
City of New Franklin | City Hall, 130 East Broadway, New Franklin, MO 65274.
Unincorporated Areas of Howard County | County Courthouse, 1 Courthouse Square, Fayette, MO 65248.

II. Non-watershed-based studies:

Community | Community map repository address
Del Norte County, California and Incorporated Areas
Maps Available for Inspection Online at: http://www.fema.gov/preliminaryfloodhazarddata
Project: 11-09-0846S Preliminary Date: September 1, 2015
City of Crescent City | Public Works Department, 377 J Street, Crescent City, CA 95531.
Unincorporated Areas of Del Norte County | Community Development Department, 981 H Street, Suite 110, Crescent City, CA 95531.
San Luis Obispo County, California and Incorporated Areas
Maps Available for Inspection Online at: http://www.fema.gov/preliminaryfloodhazarddata
Project: 11-09-0855S Preliminary Date: November 13, 2015
City of Grover Beach | City Hall, 154 South Eighth Street, Grover Beach, CA 93433.
City of Morro Bay | Public Works & Community Development Department, 955 Shasta Avenue, Morro Bay, CA 93442.
City of Pismo Beach | City Hall, 760 Mattie Road, Pismo Beach, CA 93449.
Unincorporated Areas of San Luis Obispo County | County Government Center, Public Works Department, 1055 Monterey Street, Room 207, San Luis Obispo, CA 93408.
Cass County, Iowa, and Incorporated Areas
Maps Available for Inspection Online at: http://www.fema.gov/preliminaryfloodhazarddata
Project: 15-07-0895S Preliminary Date: June 22, 2015
City of Anita | City Hall, 744 Main Street, Anita, IA 50020.
City of Atlantic | City Hall, 23 East 4th Street, Atlantic, IA 50022.
City of Cumberland | City Hall, 207 Main Street, Cumberland, IA 50843.
City of Griswold | City Building, 601 2nd Street, Griswold, IA 51535.
City of Lewis | City Hall, 416 West Main Street, Lewis, IA 51544.
City of Marne | City Council Chambers, 403 Washington Street, Marne, IA 51552.
City of Massena | City Hall, 100 Main Street, Massena, IA 50853.
City of Wiota | City Hall, 311 Center Street, Wiota, IA 50274.
Unincorporated Areas of Cass County | Cass County Courthouse, Engineer's Office, 5 West 7th Street, Atlantic, IA 50022.
Mason County, Illinois and Incorporated Areas
Maps Available for Inspection Online at: http://www.fema.gov/preliminaryfloodhazarddata
Project:11-05-5337S Preliminary Date: October 16, 2015
Unincorporated Areas of Mason County | Mason County Courthouse, County Zoning Office, 125 North Plum Street, Havana, IL 62644.
Pocahontas County, Iowa, and Incorporated Areas
Maps Available for Inspection Online at: http://www.fema.gov/preliminaryfloodhazarddata
Project: 15-07-0902S Preliminary Date: July 31, 2015
City of Fonda | City Hall, 104 West 2nd Street, Fonda, IA 50540.
City of Havelock | City Hall, 858 Wood Street, Havelock, IA 50546.
City of Laurens | City Hall, 272 North 3rd Street, Laurens, IA 50554.
City of Pocahontas | City Hall, 23 West Elm Avenue, Pocahontas, IA 50574.
City of Rolfe | City Hall, 319 Garfield Street, Rolfe, IA 50581.
Unincorporated Areas of Pocahontas County | Pocahontas County Courthouse, 99 Court Square, Pocahontas, IA 50574.

[FR Doc. 2016-04887 Filed 3-4-16; 8:45 am]

BILLING CODE 9110-12-P